DEPARTMENT OF HEALTH AND HUMAN SERVICES

National Institutes of Health

National Institute on Aging and Centers for Medicare and Medicaid Services; Neuroimaging in the Diagnosis of Alzheimer's Disease and Dementia

The National Institute on Aging (NIA) and the Centers for Medicare and Medicaid Services (CMS) are announcing an informational meeting on the scientific evidence for the use of neuroimaging techniques (position emission tomography (PET), single photon emission tomography (SPECT), and magnetic resonance imaging (MRI) in the diagnosis of Alzheimer's disease and other dementias. Questions to be addressed will include whether imaging aids early diagnosis, whether such early diagnosis improves patient-oriented outcomes, and the cost-effectiveness of the use of imaging procedures. The meeting will take place April 5, 2004, in Bethesda, MD, at a location TBA.

All interested parties are invited to attend this meeting.

For further information about the meeting contact: Dr. Susan Molchan at 301-496-9350, e-mail molchans@mail.nih.gov. For information on hotel accommodations, please contact Ms. Joyce Campbell, campbejo@nia.nih.gov.

Dated: February 20, 2004.
Richard J. Hodes,
Director, National Institute on Aging, National Institutes of Health.

[FR Doc. 04-4161 Filed 2-24-04; 8:45 am]

BILLING CODE 4140-01-M